DEPARTMENT OF ENERGY

National Nuclear Security Administration

Record of Decision for Adoption of Nuclear Regulatory Commission's (NRC) Environmental Impact Statement Related to the Operating License for the SHINE Medical Isotope Production Facility

AGENCY: National Nuclear Security Administration, Department of Energy.

ACTION: Record of decision.

SUMMARY: The U.S. Department of Energy's National Nuclear Security Administration (DOE/NNSA) intends to issue a modification to its cooperative agreement with SHINE Technologies, DE-NA0004010, to revise the scope of the agreement to include cost-shared funding for facility construction. Issuance of the modification is subject to satisfactory completion of pricing and other technical reviews. The environmental impacts of this proposed action have been addressed in the U.S. Nuclear Regulatory Commission's (NRC) Environmental Impact Statement (EIS) NUREG-2183 and NUREG-2183, Supplement 1.

FOR FURTHER INFORMATION CONTACT: For information on NNSA's National Environmental Policy Act (NEPA) process, please contact Mr. James Sanderson, NEPA Compliance Officer, National Nuclear Security Administration, Office of General Counsel, at jim.sanderson@nnsa.doe.gov or (202) 586-1402. This Record of Decision is available at https://energy.gov/nepa. The NRC EIS and supplement are available at: https://www.nrc.gov/reading-rm/doc-collections/nuregs/staff/sr2183/index.html (titles: NUREG-2183—Environmental Impact Statement for the Construction Permit for the SHINE Medical Radioisotope Production Facility Final Report and NUREG-2183, Supplement 1, “Environmental Impact Statement Related to the Operating License for the SHINE Medical Isotope Production Facility” Final Report).

SUPPLEMENTARY INFORMATION: The U.S. medical community depends on a reliable supply of the radioisotope molybdenum-99 (Mo-99) for nuclear medical diagnostic procedures. Mo-99's decay product, technetium-99m (Tc-99m), is used in over 40,000 medical procedures in the United States each day to diagnose heart disease and cancer, to study organ structure and function, and to perform other important medical applications. In 2012, Congress passed the American Medical Isotopes Production Act, which directed NNSA to establish a technology-neutral program to support the establishment of domestic supplies of Mo-99 without the use of highly enriched uranium (HEU). NNSA has implemented this by competitively awarding 50/50 percent cost-shared cooperative agreements to commercial entities and providing funds to DOE's National Laboratories to support development of non-HEU Mo-99 production technologies. Currently, the scope of NNSA's cooperative agreement with SHINE Technologies includes activities such as equipment procurement but does not include facility construction.

In 2015, the NRC and NNSA issued NUREG-2183, “Environmental Impact Statement for the Construction Permit for the SHINE Medical Radioisotope Production Facility” (NRC 2015), which discussed the environmental impacts of constructing, operating, and decommissioning the SHINE Medical Isotope Production Facility (SHINE facility) in Janesville, Wisconsin. In 2016, at the conclusion of its safety and environmental reviews, the NRC issued a construction permit for the SHINE facility (NRC 2016). In July 2019, SHINE Medical Technologies, LLC (SHINE) submitted to the NRC an application for an operating license for the SHINE facility. When a final environmental impact statement (FEIS) has been prepared in connection with the issuance of a construction permit for a facility, the NRC is required to prepare a supplement to the FEIS in connection with any issuance of an operating license for that facility in accordance with 10 Code of Federal Regulations (CFR) 51.95(b). This supplement updates the prior environmental review and only covers matters that differ from those or that reflect significant new information relative to that discussed in the FEIS. Accordingly, in response to SHINE's operating license application, NRC and NNSA staff issued NUREG-2183, Supplement 1, which considered whether there is any new information with respect to the environment or the environmental impacts of the SHINE facility, including information that is different from that considered in NUREG-2183. NRC staff did not identify any information that presented a considerably different picture of the environmental consequences of constructing, operating, and decommissioning the SHINE facility. After weighing the environmental, economic, technical, and other benefits against environmental and other costs, NRC staff's recommendation, unless safety issues mandate otherwise, was that the operating license be issued as proposed. NRC staff based its recommendation on the following: the application, including SHINE's supplemental environmental report; consultation with Federal, State, Tribal, and local agencies; the staff's independent review; and the consideration of public comments.

Decision

NNSA intends to issue a modification to its cooperative agreement with SHINE Technologies, DE-NA0004010, to revise the scope of the agreement to include cost-share funding for facility construction to support deployment of this non-HEU Mo-99 production technology. Issuance of the modification is subject to satisfactory completion of pricing and other technical reviews. This modification reflects a reallocation of funding previously awarded to DE-NA0004010 and does not increase the agreement's total funding level.

Basis for Decision

The environmental impacts of this proposed action have been previously addressed in NUREG-2183, “Environmental Impact Statement for the Construction Permit for the SHINE Medical Radioisotope Production Facility,” and NUREG-2183, Supplement 1, “Environmental Impact Statement Related to the Operating License for the SHINE Medical Isotope Production Facility.” NNSA was a cooperating agency for both the EIS and supplement and after an independent review and determined that its comments and suggestions were satisfied per 40 CFR 1506.3(b)(2). NNSA's proposed action is substantially the same as the proposed action analyzed in NRC's EIS and supplement.

Signing Authority

This document of the Department of Energy was signed on January 31, 2024 by Jill Hruby, Under Secretary for Nuclear Security and Administrator, NNSA, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 27, 2024.
Treena V. Garrett,
Federal Register Liaison Officer, U.S. Department of Energy.

[FR Doc. 2024-04397 Filed 3-1-24; 8:45 am]

BILLING CODE 6450-01-P